DEPARTMENT OF DEFENSE

Department of the Army

Programmatic Environmental Assessment and Draft Finding of No Significant Impact Regarding Iron Dome Defense System—Army

AGENCY: Department of the Army, Defense (DoD).

ACTION: Notice of Availability.

SUMMARY: The Department of the Army (Army) announces the availability of a Programmatic Environmental Assessment (PEA) and a Draft Finding of No Significant Impact (FONSI) regarding the proposed fielding of two Iron Dome Defense System—Army (IDDS-A) batteries. In accordance with the National Environmental Policy Act (NEPA), the PEA analyzes the potential environmental impact of IDDS-A at each candidate-installation. That is, the PEA analyzes the potential environmental impact of the additional soldiers, materiel, and training that are required to field IDDS-A. The Proposed Action would enhance the defensive capability of fixed and semi-fixed assets against aerial threats.

DATES: Comments must be received by April 4, 2022 to be considered in finalizing the PEA and Draft FONSI.

ADDRESSES: Please mail comments to U.S. Army Environmental Command, ATTN: IDDS-A Public Comments, 2455 Reynolds Road, Mail Stop 112, JBSA-Fort Sam Houston, TX 78234-7588, or email comments to usarmy.jbsa.imcom-aec.mbx.nepa@army.mil with “IDDS-A Public Comments” in the subject line.

FOR FURTHER INFORMATION CONTACT: Ms. Cathy Kropp, U.S. Army Environmental Command Public Affairs Office, by email (usarmy.jbsa.imcom-aec.mbx.nepa@army.mil), by mail (U.S. Army Environmental Command, ATTN: Public Affairs, 2455 Reynolds Road, Mail Stop 112, JBSA-Fort Sam Houston, TX 78234-7588), or by phone (210-466-1590 or 210-488-6061).

SUPPLEMENTARY INFORMATION: The purpose of the Proposed Action is to field two batteries of IDDS-A in fiscal year (FY) 2022 and improve the defense of fixed and semi-fixed sites (e.g., airfields and forward operating bases). IDDS-A would enhance the Army's capacity to defend against attacks from aircraft, cruise missiles (CM), unmanned aerial systems (UAS), and rocket, artillery, and mortar (RAM) fire. The Army has been developing an air defense system for years, but it is not yet ready to deploy. The Proposed Action ensures compliance with Section 112 of the John S. McCain National Defense Authorization Act for FY 2019 (Pub. L. 115-232), which requires the Army to deploy an interim missile defense capability while the Army continues to develop an enduring solution. After evaluating existing air defense systems, the Army chose IDDS-A as the interim capability. This capability is part of an air and missile defense modernization strategy that seeks to improve systems across the air defense portfolio.

IDDS-A is a mobile, all-weather, air defense system designed to intercept RAM threats fired from distances of up to 70 km. It is also effective against CM, UAS, airplane, and helicopter threats. Each IDDS-A battery would consist of approximately 60 soldiers, 13 heavy expanded mobility tactical trucks, six missile-firing units, one radar system, battle management and communications systems, and support equipment. All soldiers would be outfitted with a standard set of small arms and equipment. Since IDDS-A is an interim solution, the Army does not intend to construct additional office space, maintenance space, barracks, or training ranges in support of IDDS-A at this time.

The Army considered multiple locations at which existing temporary or permanent infrastructure can accommodate IDDS-A units and at which training can be accomplished through live fire or approved simulations. These installations met a number of mission-related screening criteria. The Action Alternative is to field the IDDS-A batteries at one or two of seven installations: Fort Bliss, TX; Fort Hood, TX; Fort Campbell, KY; Fort Riley, KS; Fort Sill, OK; Fort Stewart, GA; and Joint Base Lewis-McChord, WA.

The PEA analyzes the potential environmental impact associated with the Proposed Action at each assessed installation, including direct, indirect, and cumulative effects. The Army did not conduct a detailed analysis of socioeconomic impacts because relative to the assessed installations' respective populations, the IDDS-A batteries represent a small percentage of total personnel. The PEA takes into account minimization measures, standard procedures, and best practices routinely employed by the relevant installations to mitigate the adverse effects of similar actions.

The PEA also studied a No-Action Alternative. While the No-Action Alternative would not satisfy the purpose of or need for the Proposed Action, it provides a comparative baseline against which to examine the effects of the Proposed Action and the Action Alternative.

Resources considered in the PEA include biological resources, cultural resources, water resources, soils, land use/compatibility, and facilities. Based on the PEA's findings, the Army expects the environmental impact of the Proposed Action at all assessed installations to be less than significant (i.e., negligible or minor).

Government agencies, Native American Tribes, and the public are invited to review and comment on the PEA and Draft FONSI. The public comment period begins with publication of this Notice of Availability in the Federal Register and lasts for 30 days. The PEA and Draft FONSI are available on the U.S. Army Environmental Command website at https://aec.army.mil/index.php?cID=352. If you cannot access the PEA and Draft FONSI online, please request a hard copy by contacting U.S. Army Environmental Command by email (usarmy.jbsa.imcom-aec.mbx.nepa@army.mil), by mail (U.S. Army Environmental Command, ATTN: Public Affairs, 2455 Reynolds Road, Mail Stop 112, JBSA-Fort Sam Houston, TX 78234-7588), or by phone (210-466-1590 or 210-488-6061).

The Army will consider all timely public comments and will thereafter issue either a Final FONSI or a Notice of Intent to prepare an Environmental Impact Statement. Comments must be received or postmarked by April 4, 2022 to be considered.

James W. Satterwhite, Jr.,
Army Federal Register Liaison Officer.

[FR Doc. 2022-04465 Filed 3-2-22; 8:45 am]

BILLING CODE 3711-02-P